ENVIRONMENTAL PROTECTION AGENCY

[EPA-HQ-OW_2008-0719; FRL-9935-28-OW]

Proposed Information Collection Requests; Comment Requests

AGENCY: Environmental Protection Agency (EPA).

ACTION: Notice.

SUMMARY: The Environmental Protection Agency (EPA) is planning to submit three information collection requests (ICRs): “Information Collection Request for Cooling Water Intake Structures New Facility Final Rule (Renewal)” (EPA ICR No. 1973.06, OMB Control No. 2040-0241); “ICR Supporting Statement Information Collection Request: National Pretreatment Program” (EPA ICR No. 0002.15, OMB Control No. 2040-0009); and “ICR Supporting Statement Information Collection Request for National Pollutant Discharge Elimination System (NPDES) Program (Renewal)” (EPA ICR No. 0229.21, OMB Control No. 2040-0004) to the Office of Management and Budget (OMB) for review and approval in accordance with the Paperwork Reduction Act (44 U.S.C. 3501 et seq.). Before doing so, EPA is soliciting public comments on specific aspects of the proposed information collections as described below. This is a proposed extension of the three ICRs, which are currently approved through December 31, 2015. An Agency may not conduct or sponsor and a person is not required to respond to a collection of information unless it displays a currently valid OMB control number.

DATES: Comments must be submitted on or before December 4, 2015.

ADDRESSES: Submit your comments, referencing the Docket ID numbers provided for each item in the text online using www.regulations.gov (our preferred method), by email to ow-docket@epa.gov (Identify Docket ID No. EPA-HQ-OW-2008-0719 in the subject line), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Amelia Letnes, State and Regional Branch, Water Permits Division, OWM Mail Code: 4203M, Environmental Protection Agency, 1200 Pennsylvania Ave. NW., Washington, DC 20460; telephone number: (202) 564-5627; fax number: (202) 564 9544; email address: letnes.amelia@epa.gov

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

A. List of ICRS Planned To Be Submitted

(1) “Information Collection Request for Cooling Water Intake Structures New Facility Final Rule (Renewal)” (EPA ICR No. 1973.06, OMB Control No. 2040-0241), expiration date: December 31, 2015. Docket Number: EPA-HQ-OW_2008-0719

(2) “ICR Supporting Statement Information Collection Request for National Pretreatment Program” (EPA ICR No. 0002.15, OMB Control No. 2040-0009), expiration date: December 31, 2015. Docket Number: EPA-HQ-OW_2008-0719

(3) “ICR Supporting Statement Information Collection Request for National Pollutant Discharge Elimination System (NPDES) Program (Renewal)” (EPA ICR No. 0229.21, OMB Control No. 2040-0004), expiration date: December 31, 2015. Docket Number: EPA-HQ-OW_2008-0719

B. Individual ICRS

(1) Information Collection Request for Cooling Water Intake Structures New Facility Final Rule (Renewal) (EPA ICR No. 1973.06, OMB Control No. 2040-0241), expiration date: December 31, 2015

Abstract: Section 316(b) of the Clean Water Act (CWA) provides that “[a]ny standard established pursuant to [CWA section 301] or [CWA section 306] and applicable to a point source shall require that the location, design, construction, and capacity of cooling water intake structures reflect the best technology available for minimizing adverse environmental impact.” The section 316(b) New Facility Rule (66 FR 65256; December 18, 2001) and minor amendments (68 FR 36749; June 19, 2003) implement section 316(b) of the CWA as it applies to new facilities that use cooling water intake structures (CWISs). The rule requires new facilities to submit several distinct types of information as part of their NPDES permit application. In addition, the rule requires new facilities to maintain monitoring and reporting data as outlined by the Director in their NPDES permits. The information requirements in this ICR are necessary to ensure that new facilities are complying with the rule's provisions, and thereby minimizing adverse environmental impact resulting from impingement and entrainment losses due to the withdrawal of cooling water.

Applications for an NPDES permit may contain confidential business information. However, EPA does not consider the specific information being requested by the final rule to be typical of confidential business or personal information. If a respondent does consider this information to be of a confidential nature, the respondent may request that such information be treated as confidential. All confidential data will be handled in accordance with 40 CFR 122.7, 40 CFR part 2, and EPA's Security Manual part III, chapter 9, dated August 9, 1976.

Form Numbers: None.

Respondents/affected entities: Respondents affected include any new industrial facility that operates a cooling water intake structure that withdraws greater than 2 MGD of surface water and uses 25% or more of this water for cooling purposes. While respondents for this ICR would include any new facilities that meet the applicable requirements of the rule, EPA estimates that there are six primary industrial sectors that account for more than 99 percent of all cooling water used in the United States: (1) Traditional steam electric utilities, (2) nonutility power producers, (3) manufacturers in SIC Major Group 26 (paper and allied products), (4) manufacturers in SIC Major Group 28 (chemicals and allied products), (5) manufacturers in SIC Major Group 29 (petroleum and coal products, and (6) manufacturers in SIC Major Group 33 (primary metals). A detailed description of the SIC (and NAICS) codes can be found at 66 FR 65257.

Respondent's obligation to respond: Mandatory—Section 316(b) New Facility Rule (66 FR 65256; December 18, 2001) and minor amendments (68 FR 36749; June 19, 2003).

Estimated number of respondents: The estimated number of respondents is 145 (total).

Frequency of response: The frequency of response varies depending on the specific response activity and can range between monthly and once every 5 years.

Total estimated burden: 151,789 hours (per year). Burden is defined at 5 CFR 1320.03(b).

Total estimated cost: $11,817,460 (per year), includes $2,267,728 annualized capital or operation & maintenance costs.

Changes in Estimates: There is a net increase of 13,367 hours (10%) in the total estimated respondent burden compared with the ICR currently approved by OMB. This increase is primarily due to the addition of the newly built facilities and an increase in the number of facilities are entering the renewal phase of the permitting process.

(2) ICR Supporting Statement Information Collection Request: National Pretreatment Program” (EPA ICR No. 0002.15, OMB Control No. 2040-0009), expiration date: December 31, 2015.

Abstract: This ICR calculates the burden and costs associated with managing and implementing the National Pretreatment Program as mandated under sections 402(a) and (b) and 307(b) of the Clean Water Act (CWA or the Act). This ICR includes all existing tasks under the National Pretreatment Program, as amended by the U.S. Environmental Protection Agency's (EPA) Streamlining Rule. Section 402(b) of CWA requires EPA to develop national pretreatment standards to control industrial discharges into sewage systems. The purpose of these standards is to prevent pollutants from passing through the treatment plant or interfering with treatment plant operations, possibly resulting in damage to the environment or a threat to public health.

Reporting requirements may contain CBI, proprietary information, or information containing compromising trade secrets. In such cases, the respondent has the right to request that the information be treated as CBI. If a respondent does consider this information to be of a confidential nature, the respondent may request that such information be treated as confidential. All confidential data will be handled in accordance with 40 CFR 122.7, 40 CFR part 2, and EPA's Security Manual part III, chapter 9, dated August 9, 1976.

Form Numbers: None.

Respondents/affected entities: Various industrial categories, publicly owned treatment works (POTWs), Local and State governments.

Respondent's obligation to respond: Mandatory—Sections 402(a) and (b) and 307(b) of the CWA.

Estimated number of respondents: The estimated number of respondents is 23,571 (total).

Frequency of response: The frequency of response varies depending on the specific response activity and can range between monthly and once every 5 years.

Total estimated burden: 1,744,406 hours (per year). Burden is defined at 5 CFR 1320.03(b).

Total estimated cost: $77,907,187 (per year), includes $2,515,470 annualized capital or operation & maintenance costs.

Changes in Estimates: There is a net decrease of 62,110 hours in the total estimated respondent burden compared with the ICR currently approved by OMB. This change is primarily the result of revised estimates of the number of SIUs, including facilities that closed, facilities that were downgraded from CIU or SIU status, and the addition of facilities that opened or are newly permitted. The reduction also reflects a reduction in the number of POTWs projected to develop a pretreatment program during the three-year ICR period.

(3) ICR Supporting Statement Information Collection Request for National Pollutant Discharge Elimination System (NPDES) Program (Renewal) (EPA ICR No. 0229.21, OMB Control No. 2040-0004), expiration date: December 31, 2015.

Abstract: This consolidated ICR calculates the burden and costs associated with the NPDES program, identifies the types of activities regulated under the NPDES program, describes the roles and responsibilities of state governments and the Agency, and presents the program areas that address the various types of regulated activities. It is an update of the 2011 Information Collection Request for the NPDES Program (OMB Control Number: 2040-0004; EPA ICR Number: 0229.20) that consolidated the burden and costs associated with activities previously reported in ten of the 15 NPDES program or NPDES-related ICRs administered by EPA's Water Permits Division. This renewal includes the addition of the burden and costs for the Airport Deicing Category, which were previously contained in a separate ICR.

Permit applications and other respondent reports may contain confidential business information. If a respondent does consider this information to be of a confidential nature, the respondent may request that such information be treated as confidential. All confidential data will be handled in accordance with 40 CFR 122.7, 40 CFR part 2, and EPA's Security Manual part III, chapter 9, dated August 9, 1976.

Form Numbers: OMB No. 2040-0086; OMB No. 2040-0250; OMB No. 2040-0188, OMB No. 2040-0211; OMB No. 1004-0189; and OMB No. 2040-0004.

Respondents/affected entities: Any industrial point source discharger of pollutants, including but not limited to publicly owned and privately owned treatment works (POTWs and PrOTWs), sewage sludge management and disposal operations, small and large vessels, airports with deicing operations, dischargers of stormwater, construction sites, municipalities, local and state governments.

Respondent's obligation to respond: Mandatory. Sections 301, 302, 304, 306, 307, 308, 401, 402, 403, 405, and 510 of the CWA; the 1987 Water Quality Act (WQA) revisions to CWA section 402(p); 40 (CFR) Parts 122, 123, 124, and 125 (and Parts 501 and 503 for Biosolids); and the Great Lakes Critical Programs Act (CPA).

Estimated number of respondents: 532,523 total (321,205 facilities, 210,681 vessels, and 637 States/Tribes/Territories).

Frequency of response: The frequency of response varies depending on the specific response activity and can range from ongoing and monthly to once every 5 years.

Total estimated burden: 21,038,480 hours (per year). Burden is defined at 5 CFR 1320.03(b).

Total estimated cost: $1,035,773,445 (per year), includes $20,453,959 annualized capital or operation & maintenance costs.

Changes in Estimates: There is a net decrease of 286,261 (1.3%) hours in the total estimated respondent burden compared with the ICR currently approved by OMB. This decrease is primarily due to a reduction in the estimate of the number of respondents. This net reduction included an increase in burden related to: The addition of the burden associated with the airport deicing category; changes in the burden associated with agency actions related to changes in the VGP; and addition of burden associated with the issuance of the small vessels general permit (sVGP).

Dated: September 24, 2015.
Andrew D. Sawyers,
Director, Office of Wastewater Management.

[FR Doc. 2015-25345 Filed 10-2-15; 8:45 am]

BILLING CODE 6560-50-P